DEPARTMENT OF LABOR

Employment and Training Administration

[TA-W-83,346]

Von Hoffmann Corporation, a Subsidiary of RR Donnelley & Sons Company, Jefferson City Plant, Including On-Site Leased Workers from Employment Plus and Manpower, Jefferson City, Missouri; Notice of Affirmative Determination Regarding Application for Reconsideration

By application dated March 24, 2014, a worker requested administrative reconsideration of the negative determination regarding workers' eligibility to apply for Trade Adjustment Assistance (TAA) applicable to workers and former workers of the subject firm. The determination was issued on February 27, 2014.

The determination was based on the Department's findings that there was no increase in imports of textbooks or catalogues, or like or directly competitive articles (including e-books); there was no shift in production by the subject firm to a foreign country, and no acquisition in production by the subject firm from a foreign country; the workers are not secondarily-affected workers; and the subject firm was not named by the International Trade Commission as required by Section 222(e) of the Trade Act, as amended.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The request for reconsideration identifies a new source of information regarding a shift of production to India and Mexico.

The Department has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 8th day of April, 2014.
Del Min Amy Chen,
Certifying Officer, Office of Trade Adjustment Assistance.

[FR Doc. 2014-09755 Filed 4-28-14; 8:45 am]

BILLING CODE 4510-FN-P